ENVIRONMENTAL PROTECTION AGENCY

40 CFR Part 63

[FRL-7100-4]

Delegation of National Emission Standards for Hazardous Air Pollutants for Source Categories; State of Arizona; Arizona Department of Environmental Quality

AGENCY: Environmental Protection Agency (EPA).

ACTION: Direct final rule.

SUMMARY: EPA is amending certain regulations to reflect the current delegation status of national emission standards for hazardous air pollutants in Arizona. Several NESHAPs were delegated to the Arizona Department of Environmental Quality on March 5, 2001, and the purpose of this action is to update the listing in the Code of Federal Regulations.

DATES: This rule is effective on January 15, 2002 without further notice, unless EPA receives relevant adverse comments by December 17, 2001. If EPA receives such comments, then it will publish a timely withdrawal in the Federal Register informing the public that this rule did not take effect.

ADDRESSES: Comments must be submitted to Andrew Steckel at the Region IX office listed below. Copies of the request for delegation and other supporting documentation are available for public inspection (docket number A-96-25) at the following location: U.S. Environmental Protection Agency, Region IX, Rulemaking Office (AIR-4), Air Division, 75 Hawthorne Street, San Francisco, California 94105-3901.

FOR FURTHER INFORMATION CONTACT: Mae Wang, Rulemaking Office (AIR-4), Air Division, U.S. Environmental Protection Agency, Region IX, 75 Hawthorne Street, San Francisco, California 94105-3901, (415) 744-1200.

SUPPLEMENTARY INFORMATION:

I. Background

A. Delegation of NESHAPs

Section 112(l) of the Clean Air Act, as amended in 1990 (CAA), authorizes EPA to delegate to state or local air pollution control agencies the authority to implement and enforce the standards set out in 40 CFR part 63, National Emission Standards for Hazardous Air Pollutants for Source Categories. On November 26, 1993, EPA promulgated regulations, codified at 40 CFR part 63, subpart E (hereinafter referred to as “subpart E”), establishing procedures for EPA's approval of state rules or programs under section 112(l) (see 58 FR 62262). Subpart E was later amended on September 14, 2000 (see 65 FR 55810).

Any request for approval under CAA section 112(l) must meet the approval criteria in 112(l)(5) and subpart E. To streamline the approval process for future applications, a state or local agency may submit a one-time demonstration that it has adequate authorities and resources to implement and enforce any CAA section 112 standards. If such demonstration is approved, then the state or local agency would no longer need to resubmit a demonstration of these same authorities and resources for every subsequent request for delegation of CAA section 112 standards. However, EPA maintains the authority to withdraw its approval if the State does not adequately implement or enforce an approved rule or program.

B. ADEQ Delegations

On July 17, 1998, EPA published a direct final action delegating to the Arizona Department of Environmental Quality (ADEQ) several NESHAPs and approving ADEQ's delegation mechanism for future standards (see 63 FR 38478). That action explained the procedure for EPA to grant delegations to ADEQ by letter, with periodic Federal Register listings of standards that have been delegated. On January 5, 2001, ADEQ requested delegation of the following NESHAPs contained in 40 CFR part 63:

• Subpart AA—NESHAP from Phosphoric Acid Manufacturing Plants

• Subpart BB—NESHAP from Phosphate Fertilizers Production Plants

• Subpart HH—NESHAP from Oil and Natural Gas Production Facilities

• Subpart SS—National Emission Standards for Closed Vent Systems, Control Devices, Recovery Devices and Routing to a Fuel Gas System or a Process

• Subpart TT—National Emission Standards for Equipment Leaks—Control Level 1

• Subpart UU—National Emission Standards for Equipment Leaks—Control Level 2 Standards

• Subpart WW—National Emission Standards for Storage Vessels (Tanks)—Control Level 2

• Subpart YY—NESHAP for Source Categories: Generic MACT Standards

• Subpart CCC—NESHAP for Steel Pickling—HCl Process Facilities and Hydrochloric Acid Regeneration Plants

• Subpart DDD—NESHAP for Mineral Wool Production

• Subpart GGG—National Emission Standards for Pharmaceuticals Production

• Subpart HHH—NESHAP from Natural Gas Transmission and Storage Facilities

• Subpart III—NESHAP for Flexible Polyurethane Foam Production

• Subpart LLL—NESHAP from the Portland Cement Manufacturing Industry

• Subpart MMM—NESHAP for Pesticide Active Ingredient Production

• Subpart NNN—NESHAP for Wool Fiberglass Manufacturing

• Subpart PPP—NESHAP for Polyether Polyols Production

• Subpart TTT—NESHAP for Primary Lead Smelting

• Subpart XXX—NESHAP for Ferroalloys Production: Ferromanganese and Silicomanganese

On March 5, 2001, EPA granted delegation to ADEQ for these NESHAPs. EPA also delegated to ADEQ any amendments to previously-delegated NESHAPs, as of July 1, 1999. Today's action is serving to notify the public of the March 5, 2001, delegation and to codify these delegations into the Code of Federal Regulations.

II. EPA Action

Today's document serves to notify the public that on March 5, 2001, EPA granted delegation to ADEQ for the NESHAPs listed above, as well as any amendments to previously-delegated NESHAPs as of July 1, 1999. Today's action will codify these delegations into the Code of Federal Regulations.

III. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely updates the list of approved delegations in the Code of Federal Regulations and imposes no additional requirements. Accordingly, the Administrator certifies that this rule will not have a significant economic impact on a substantial number of small entities under the Regulatory Flexibility Act (5 U.S.C. 601 et seq.). Because this rule does not impose any additional enforceable duty, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely updates the list of already-approved delegations, and does not alter the relationship or the distribution of power and responsibilities established in the Clean Air Act. This rule also is not subject to Executive Order 13045, “Protection of Children from Environmental Health Risks and Safety Risks” (62 FR 19885, April 23, 1997), because it is not economically significant.

In reviewing state delegation submissions, our role is to approve state choices, provided that they meet the criteria of the CAA. In this context, in the absence of a prior existing requirement for the state to use voluntary consensus standards (VCS), we have no authority to disapprove state submissions for failure to use VCS. It would thus be inconsistent with applicable law for EPA, when it reviews state submissions, to use VCS in place of state submissions that otherwise satisfy the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. We will submit a report containing this rule and other required information to the United States Senate, the United States House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 15, 2002. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 63

Environmental protection, Administrative practice and procedure, Air pollution control, Hazardous substances, Intergovernmental relations, Reporting and recordkeeping requirements.

Authority: This action is issued under the authority of section 112 of the Clean Air Act, as amended, 42 U.S.C. 7412.

Dated: October 30, 2001.
Jack P. Broadbent,
Director, Air Division, Region IX.

Title 40, chapter I, part 63 of the Code of Federal Regulations is amended as follows:

PART 63—[AMENDED]

1. The authority citation for part 63 continues to read as follows:

Authority: 42 U.S.C. 7401, et seq.

Subpart E—Approval of State Programs and Delegation of Federal Authorities

2. Section 63.99 is amended by revising paragraph (a)(3) to read as follows:

§ 63.99 Delegated Federal Authorities.

(a) * * *

(3) Arizona. The following table lists the specific Part 63 standards that have been delegated unchanged to the air pollution control agencies in the State of Arizona. The (X) symbol is used to indicate each category that has been delegated.

Delegation Status for Part 63 Standards—Arizona
Subpart | Description | ADEQ ¹ | MCESD ² | PDEQ ³ | PCAQCD ⁴
A | General Provisions | X | X | X | X
F | Synthetic Organic Chemical Manufacturing Industry | X | X | X | X
G | Synthetic Organic Chemical Manufacturing Industry: Process Vents, Storage Vessels, Transfer Operations, and Wastewater | X | X | X | X
H | Organic Hazardous Air Pollutants: Equipment Leaks | X | X | X | X
I | Organic Hazardous Air Pollutants: Certain Processes Subject to the Negotiated Regulation for Equipment Leaks | X | X | X | X
L | Coke Oven Batteries | X | X | X | X
M | Perchloroethylene Dry Cleaning | X | X | X | X
N | Hard and Decorative Chromium Electroplating and Chromium Anodizing Tanks | X | X | X | X
O | Ethylene Oxide Sterilization Facilities | X | X | X | X
Q | Industrial Process Cooling Towers | X | X | X | X
R | Gasoline Distribution Facilities | X | X | X | X
S | Pulp and Paper | X |  |  |
T | Halogenated Solvent Cleaning | X | X | X | X
U | Group I Polymers and Resins | X | X |  | X
W | Epoxy Resins Production and Non-Nylon Polyamides Production | X | X | X | X
X | Secondary Lead Smelting | X | X | X | X
AA | Phosphoric Acid Manufacturing Plants | X |  |  |
BB | Phosphate Fertilizers Production Plants | X |  |  |
CC | Petroleum Refineries | X | X | X | X
DD | Off-Site Waste and Recovery Operations | X | X |  | X
EE | Magnetic Tape Manufacturing Operations | X | X | X | X
GG | Aerospace Manufacturing and Rework Facilities | X | X | X | X
HH | Oil and Natural Gas Production Facilities | X |  |  |
JJ | Wood Furniture Manufacturing Operations | X | X | X | X
KK | Printing and Publishing Industry | X | X | X | X
LL | Primary Aluminum Reduction Plants | X |  |  |
OO | Tanks—Level 1 | X | X |  | X
PP | Containers | X | X |  | X
QQ | Surface Impoundments | X | X |  | X
RR | Individual Drain Systems | X | X |  | X
SS | Closed Vent Systems, Control Devices, Recovery Devices and Routing to a Fuel Gas System or a Process | X |  |  |
TT | Equipment Leaks—Control Level 1 | X |  |  |
UU | Equipment Leaks— Control Level 2 | X |  |  |
VV | Oil-Water Separators and Organic-Water Separators | X | X |  | X
WW | Storage Vessels (Tanks) —Control Level 2 | X |  |  |
YY | Generic MACT Standards | X |  |  |
CCC | Steel Pickling | X |  |  |
DDD | Mineral Wool Production | X |  |  |
EEE | Hazardous Waste Combustors | X |  |  |
GGG | Pharmaceuticals Production | X |  |  |
HHH | Natural Gas Transmission and Storage Facilities | X |  |  |
III | Flexible Polyurethane Foam Production | X |  |  |
JJJ | Group IV Polymers and Resins | X | X |  | X
LLL | Portland Cement Manufacturing Industry | X |  |  |
MMM | Pesticide Active Ingredient Production | X |  |  |
NNN | Wool Fiberglass Manufacturing | X |  |  |
PPP | Polyether Polyols Production | X |  |  |
TTT | Primary Lead Smelting | X |  |  |
XXX | Ferroalloys Production | X |  |  |
¹ Arizona Department of Environmental Quality.
² Maricopa County Environmental Services Department.
³ Pima County Department of Environmental Quality.
⁴ Pinal County Air Quality Control District.

[FR Doc. 01-28342 Filed 11-15-01; 8:45 am]

BILLING CODE 6560-50-P